DEPARTMENT OF THE INTERIOR

Geological Survey

Proposed Information Collection; Assessment of the Business Requirements and Benefits of Enhanced National Elevation Data

AGENCY: United States Geological Survey (USGS), Interior.

ACTION: Notice; request for comments.

SUMMARY: We (U.S. Geological Survey) will ask the Office of Management and Budget (OMB) to approve the information collection (IC) described below. To comply with the Paperwork Reduction Act of 1995 and a part of our continuing efforts to reduce paperwork and respondent burden, we invite the general public and other Federal agencies to comment on this IC. We may not conduct or sponsor and a person is not required to respond to a collection unless it displays a currently valid OMB control number.

DATES: You must submit comment on or before July 6, 2010.

ADDRESSES: Send your comments to the IC to Phadrea Ponds, Information Collections Clearance Officer, U.S. Geological Survey, 2150-C Center Avenue, Fort Collins, CO 80525 (mail); (970) 226-9230 (fax); or pponds@usgs.gov (e-mail). Please reference Information Collection 1028-NEW, LiDAR.

FOR FURTHER INFORMATION CONTACT: Gregory Snyder by mail at U.S. Geological Survey, 12201 Sunrise Valley Drive, MS 517, Reston, VA 20192-0001, or by telephone at 703-648-5169.

SUPPLEMENTARY INFORMATION:

I. Abstract

USGS Geography supports some of the most pressing resource management, environmental and climate change science issues faced by our Nation. Light Detection And Ranging (LiDAR) is the leading technology for collecting highly-accurate three-dimensional measurements of the Earth's topography and surface features such buildings, bridges, coastlines, rivers, forests and other landscape characteristics. These data provide an unprecedented tool for scientific understanding and informed National decisions related to ecosystem management, energy development, natural resource conservation and mitigating geologic and flood-related hazards. The USGS now collects LiDAR data to a limited extent and primarily for upgrading bare-earth elevation data for The National Map. This study seeks to establish a baseline of national business needs and associated benefits for LiDAR to enhance the responsiveness of USGS programs, and to design an efficient future program that balances requirements, benefits and costs. The study advances coordinated program development among the numerous federal and state agencies that increasingly rely on LiDAR to enable the fulfillment of their missions. The study is sponsored by the National Digital Elevation Program steering committee and supported by several member agencies.

The information collection process will be guided by an interagency management team led by USGS with support from a professional services contractor. The information collection will be conducted using a standardized template. We will protect information from respondents considered proprietary under the Freedom of Information Act (5 U.S.C. 552) and its implementing regulations (43 CFR part 2), and under regulations at 30 CFR 250.197, “Data and information to be made available to the public or for limited inspection.” Responses are voluntary. No questions of a “sensitive” nature are asked.

II. Data

OMB Control Number: None. This is a new collection.

Title: Assessment of the Business Requirements and Benefits of Enhanced National Elevation Data.

Type of Request: New.

Affected Public: States, U.S. Territories, Tribes and selected private natural resource development companies.

Respondent's Obligation: Voluntary.

Frequency of Collection: One time only.

Estimated Annual Number of Respondents: Approximately 300 responses.

Estimated Total Annual Burden Hours: 1,200.

III. Request for Comments

We invite comments concerning this IC on:

(1) Whether or not the collection of information is necessary, including whether or not the information will have practical utility;

(2) the accuracy of our estimate of the burden for this collection of information;

(3) ways to enhance the quality, utility, and clarity of the information to be collected; and

(4) ways to minimize the burden of the collection of information on respondents.

Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done. To comply with the public process, we hereby publish this Federal Register notice announcing that we will submit this IC to OMB for approval. The notice provides the required 60-day public comment period.

USGS Information Collection Clearance Officer: Phadrea D. Ponds, 970-226-9445.

Dated: April 27, 2010.
Bruce K. Quirk,
Land Remote Sensing Program Coordinator.

[FR Doc. 2010-10374 Filed 5-3-10; 8:45 am]

BILLING CODE 4311-AM-P